DEPARTMENT OF THE INTERIOR

Bureau of Land Management

[WO-220-1020-PB-241 1a]

Extension of Approved Information Collection, OMB Approved Number 1004-0005

AGENCY: Bureau of Land Management, Interior.

ACTION: Notice and request for comments.

SUMMARY: In accordance with the Paperwork Reduction Act of 1995, the Bureau of Land Management (BLM) is requesting the Office of Management and Budget (OMB) to extend an existing approval to collect information from individuals who apply for grazing permits or leases or who apply to make changes in grazing use within the terms and conditions of existing permits and leases. BLM uses Form 4130-1 (Grazing Application) to collect information that describes the applicant's desired grazing use under a new grazing permit or lease or that describes the applicant desired changes in grazing use within the terms and conditions of an existing permit or lease. The regulations under 43 CFR 4130 authorize BLM to issue grazing permits or leases to qualified applicants and to authorize changes in grazing use within the terms and conditions of an existing permit or lease.

DATES: You must submit your comments to BLM at the address below on or before October 22, 2001. BLM will not necessarily consider any comments received after the above date.

ADDRESSES: You may mail comments to: Regulatory Affairs Group (630), Bureau of Land Management, Mailstop 401LS, 1849 C Street, NW., Washington, DC 20240.

You may send comments via Internet to: WOComment@blm.gov. Please include “ATTN: 1004-0005” and you name and return address in your Internet message.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Ken Visser on (202) 452-7743 (Commercial or FTS). Persons who use a telecommunication device for the deaf (TDD) may call the Federal Information Relay Service (FIRS) on 1-800-877-8330, 24 hours a day, seven days a week, to contact Mr. Visser.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The regulations under 43 CFR 4130 authorize BLM to issue grazing permits or leases to applicants who apply to have their livestock graze on public lands. BLM administers the livestock grazing program consistent with land-use plans, multiple-use objectives, sustained yield, environmental values, economic considerations, and other factors. To do so, BLM requests information from the permittees and lessees to authorize livestock grazing use on the public lands and to amend annual authorized grazing use levels.

BLM will use Form 4130-1 to collect the following information:

(1) The name and number of the grazing allotment to verify the authorized location;

(2) The number of livestock;

(3) Periods of use for billing purposes to calculate grazing use fees;

(4) To record brands to verify ownership;

(5) To determine reasons for any nonuse of the grazing allotment;

(6) To determine if the use applied for is within the authorized level of use;

(7) To determine if the use applied for is consistent with multiple-use objectives; and

(8) To develop the appropriate terms and conditions under 43 CFR 4130.3-1 and 4130.3-2.

BLM uses this information also for various grazing administrative purposes depending on the nature of the application. These purposes include:

(1) To identify the applicant;

(2) To determine if the requested terms and conditions of grazing use are consistent with regulations and applicable land use plan or activity plan management guidance;

(3) To determine if the livestock brands are recorded to the applicant;

(4) To develop the appropriate terms and conditions under 43 CFR 4130.3-1 and 4130.3-2;

(5) To consider modifying terms and conditions of grazing use under 43 CFR 4130.3;

(6) To consider changes to grazing use within terms and conditions of the existing permit or lease under 43 CFR 4130.4(b); and

(7) To determine the forage amount requested and the grazing fees due for use.

Based upon BLM experience and recent tabulations of activity, we process approximately 6,000 applications each year. The public reporting information collection burden takes 20 minutes to complete. The estimated number of responses per year is 6,000 and the total annual burden is 2,000 hours.

BLM will summarize all responses to this notice and include them in the request for OMB approval. All comments will become a matter of public record.

Dated: August 3, 2001.
Michael H. Schwartz,
BLM Information Collection Clearance Officer.

[FR Doc. 01-21055 Filed 8-20-01; 8:45 am]

BILLING CODE 4310-84-M